DEPARTMENT OF DEFENSE

48 CFR Part 219

[DFARS Case 2000-D021]

Defense Federal Acquisition Regulation Supplement; Update of Small Business Specialist Functions

AGENCY: Department of Defense (DoD).

ACTION: Final rule.

SUMMARY: The Director of Defense Procurement has issued a final rule amending the Defense Federal Acquisition Regulation Supplement (DFARS) to update policy pertaining to the functions of small business specialists at DoD contracting activities. The rule provides for small business specialist review of all proposed acquisitions exceeding $10,000 in value.

EFFECTIVE DATE: October 25, 2000.

FOR FURTHER INFORMATION CONTACT: Ms. Susan Schneider, Defense Acquisition Regulations Council, OUSD (AT&L) DP (DAR), IMD 3C132, 3062 Defense Pentagon, Washington, DC 20301-3062. Telephone (703) 602-0326; telefax (703) 602-0350. Please cite DFARS Case 2000-D021.

SUPPLEMENTARY INFORMATION:

A. Background

Section 19.201(d) (10) of the Federal Acquisition Regulation (FAR) requires an Office of Small and Disadvantaged Business Utilization within a contracting activity to make recommendations as to whether an acquisition should be awarded under FAR Subpart 19.5 as a small business set-aside, under FAR Subpart 19.8 as a Section 8(a) award, or under FAR Subpart 19.13 as a HUBZone set-aside. The corresponding text at DFARS 219.201(d) required DoD small business specialists to review and make recommendations for all acquisitions over $10,000, except those restricted for exclusive small business participation. This final rule revises DFARS 219.201(d) to provide for small business specialist review of all acquisitions over $10,000, including those restricted for exclusive small business participation. This will permit small business specialists to make recommendations for Section 8(a) awards and HUBZone set-asides in accordance with FAR 19.201(d). The rule also makes editorial changes to update and clarify the text.

This rule was not subject to Office of Management and Budget review under Executive Order 12866, dated September 30, 1993.

B. Regulatory Flexibility Act

This final rule does not constitute a significant revision within the meaning of FAR 1.501 and Public Law 98-577 and publication for public comment is not required. However, DoD will consider comments from small entities concerning the affected DFARS subpart in accordance with 5 U.S.C. 610. Such comments should cite DFARS Case 2000-D021.

C. Paperwork Reduction Act

The Paperwork Reduction Act does not apply because the rule does not impose any information collection requirements that require the approval of the Office of Management and Budget under 44 U.S.C. 3501, et seq.

List of Subjects in 48 CFR Part 219

Government procurement.

Michele P. Peterson,
Executive Editor, Defense Acquisition Regulations Council.

Therefore, 48 CFR Part 219 is amended as follows:

1. The authority citation for 48 CFR Part 219 continues to read as follows:

Authority: 41 U.S.C. 421 and 48 CFR Chapter 1.

PART 219—SMALL BUSINESS PROGRAMS

2. Section 219.201 is amended by revising paragraph (d) to read as follows:

219.201 General policy.

* * * * *

(d) For the defense agencies, the director of the Office of Small and Disadvantaged Business Utilization must be appointed by, be responsible to, and report directly to the director or deputy director of the defense agency.

(8) The responsibility for assigning small business technical advisors is delegated to the head of the contracting activity.

(10) Contracting activity small business specialists perform this function by—

(A) Reviewing and making recommendations for all acquisition over $10,000;

(B) Making the review before issue of the solicitation or contract modification and documenting it on DD Form 2579, Small Business Coordination Record; and

(C) Referring recommendations that have been rejected by the contracting officer to the Small Business Administration (SBA) procurement center representative. However, if an SBA representative is not assigned or available, the specialist refers the matter to the specialist's appointing authority.

* * * * *

[FR Doc. 00-27244 Filed 10-24-00; 8:45 am]

BILLING CODE 5000-04-M